DEPARTMENT OF COMMERCE

National Institute of Standards and Technology

National Artificial Intelligence Advisory Committee

AGENCY: National Institute of Standards and Technology, Department of Commerce.

ACTION: Notice of open briefing sessions.

SUMMARY: The National Institute of Standards and Technology (NIST) announces that the National Artificial Intelligence Advisory Committee (NAIAC or Committee) will hold a series of virtual briefing sessions. These sessions will be held on Tuesday, June 20, 2023; Thursday, June 22, 2023; and Tuesday, June 27, 2023. The purpose of these sessions is for invited experts to brief the Committee on topics of interest related to the Committee's year two efforts. Additional information, including the final agenda and link to register, will be available online at: ai.gov/naiac/.

DATES: The sessions will be held on Tuesday, June 20, 2023; Thursday, June 22, 2023; and Tuesday, June 27, 2023. Additional information, including the session times, will be available on ai.gov/naiac. Members of the public interested in viewing the sessions are encouraged to visit ai.gov/naiac/ for session details and to register to watch virtually. Registration is required to view each of the virtual sessions and members of the public should register in accordance with the information provided in the SUPPLEMENTARY INFORMATION section of this notice.

ADDRESSES: These sessions will be held virtually. For instructions on how to attend the sessions, please see the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333, or Melissa Banner, Designated Federal Officer, National Institute of Standards and Technology, 100 Bureau Drive, MS 1000, Gaithersburg, MD 20899, melissa.banner@nist.gov or 301-975-5245. Please direct any inquiries to naiac@nist.gov.

SUPPLEMENTARY INFORMATION: In accordance with the Federal Advisory Committee Act, 5 U.S.C. 1001 et seq., notice is hereby given that the NAIAC will hold briefing sessions on Tuesday, June 20, 2023; Thursday, June 22, 2023; and Tuesday, June 27, 2023. The sessions will be open to the public and will be held virtually. Interested members of the public will be able to attend the sessions from remote locations. The purpose of these sessions is for invited experts to brief the Committee on topics of interest related to the Committee's year two efforts. Additional information, including the final agenda and link to register, will be available online at: ai.gov/naiac/.

The NAIAC is authorized by section 5104 of the National Artificial Intelligence Initiative Act of 2020 (Pub. L. 116-283), in accordance with the provisions of the Federal Advisory Committee Act, 5 U.S.C. 1001 et seq. The Committee advises the President and the National Artificial Intelligence Initiative Office on matters related to the National Artificial Intelligence Initiative. Additional information on the NAIAC is available at ai.gov/naiac/.

Comments: Oral comments from the public will not be permitted during these virtual sessions. However, individuals and representatives of organizations may submit written comments and suggestions to the Committee at any time. Please note that all submitted comments will be treated as public documents and will be made available for public inspection. All comments must be submitted via email with the subject line “YOUR NAME, YOUR ORGANIZATION NAME (if applicable), NAIAC Comments” to naiac@nist.gov.

Virtual Admittance Instructions: The sessions will be broadcast live via virtual teleconference. Registration is required to view each of the virtual sessions. To register, please visit ai.gov/naiac/. Members of the public that would like to view the virtual sessions must register by 5:00 p.m. Eastern Time, Friday June 16, 2023, for the June 20, 2023 session; by 5:00 p.m. Eastern Time, Tuesday, June 20, 2023, for the Thursday, June 22, 2023 session; and by 5:00 p.m. Eastern Time, Friday June 23, 2023 for the Tuesday, June 27, 2023 session.

Alicia Chambers,
NIST Executive Secretariat.

[FR Doc. 2023-12164 Filed 6-6-23; 8:45 am]

BILLING CODE 3510-13-P